OFFICE OF THE FEDERAL REGISTER

Title 2 CFR

Revision to Subject Matter

Editorial Note: The Director of the Office of the Federal Register, pursuant to his authority to maintain an orderly system of codification under 44 U.S.C. 1510 and 1 CFR 8.2, hereby changes the subject matter of title 2 of the Code of Federal Regulations from “Grants and Agreements” to “Federal Financial Assistance.”

Accordingly, the subject matter of title 2 of the Code of Federal Regulations is revised as of December 16, 2024.

[FR Doc. 2024-29545 Filed 12-13-24; 8:45 am]

BILLING CODE 0099-10-P